DEPARTMENT OF JUSTICE

Antitrust Division

Notice Pursuant to the National Cooperative Research and Production Act of 1993—ASSE International Chapter of IAPMO, LLC

Notice is hereby given that, on December 7, 2015, pursuant to Section 6(a) of the National Cooperative Research and Production Act of 1993, 15 U.S.C. 4301 et seq. (“the Act”), ASSE International Chapter of IAPMO, LLC (“ASSE”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: ASSE International Chapter of IAPMO, LLC, Mokena, IL. The nature and scope of ASSE's standards development activities are: The creation, promotion, and issuance of standards with respect to plumbing, water supply, sewage disposal, water purification, drainage, fire protection, and medical gases.

Patricia A. Brink,
Director of Civil Enforcement, Antitrust Division.

[FR Doc. 2015-32627 Filed 12-24-15; 8:45 am]

BILLING CODE P